FEDERAL ELECTION COMMISSION

Sunshine Act Meeting

PREVIOUSLY ANNOUNCED DATE AND TIME: Wednesday, February 9, 2000, 10:00 a.m., Meeting Open to the Public.

The following items were added to the agenda.

1996 Republican National Convention Committee on Arrangements—Administrative Review of Repayment Determination, Proposed Statement of Reasons (LRA#472).

Express Advocacy Rule (11 CFR 100.22).

Legislative Recommendations, 2000.

DATE AND TIME: Tuesday, February 15, 2000, 10:00 a.m.

PLACE: 999 E Street, NW, Washington, DC

STATUS: This Meeting Will Be Closed to the Public

ITEMS TO BE DISCUSSED: Compliance matters pursuant to 2 U.S.C. 437g.

Audits conducted pursuant to 2 U.S.C. 437g, 438(b), and Title 26, U.S.C.

Matters concerning participation in civil actions or proceedings or arbitration.

Internal personnel rules and procedures or matters affecting a particular employee.

DATE AND TIME: Wednesday, February 16, 2000, 10:00 a.m.

PLACE: 999 E Street, NW, Washington, DC (Ninth Floor).

STATUS: This Hearing Will Be Open to the Public.

MATTERS BEFORE THE COMMISSION: Notice of Proposed Rulemaking on General Public Political Communications Coordinated with Candidates.

DATE AND TIME: Thursday, February 17, 2000, 10:00 a.m.

PLACE: 999 E Street, NW, Washington, DC (Ninth Floor).

STATUS: This Meeting Will Be Closed to the Public.

ITEMS TO BE DISCUSSED: Correction and Approval of Minutes.

1996 Democratic National Convention Committee, Inc—Administrative Review of Repayment Determination, Proposed Statement of Reasons (LRA#471).

Advisory Opinion 1999-39: WellPoint Health Networks Political Action Committee by counsel, James A. Sivesind.

Final Rules and Statement of Basis and Purpose Implementing the Electronic Freedom of Information Act Amendments.

Status of Regulations.

Administrative Matters.

PERSON TO CONTACT FOR INFORMATION: Mr. Ron Harris, Press Officer, Telephone: (202) 694-1220.

Mary W. Dove,
Acting Secretary of the Commission.

[FR Doc. 00-3152 Filed 2-7-00; 2:58 pm]

BILLING CODE 6715-01-M